DEPARTMENT OF THE INTERIOR

Bureau of Land Management

[AK-930-5420-FR-L040; FF-94671 and FF-94672]

Notice of Applications for Recordable Disclaimers of Interest for Lands Underlying Little Scottie Creek and Scottie Creek in Alaska

AGENCY: Bureau of Land Management, Interior.

ACTION: Notice.

SUMMARY: The State of Alaska (State) has filed applications for Recordable Disclaimers of Interest from the United States in those lands underlying Little Scottie Creek and Scottie Creek, located in the Tanana River region in Interior, Alaska. The State asserts that Scottie Creek and Little Scottie Creek were navigable and unreserved at the time of statehood; therefore, title to the submerged lands passed to the State at the time of statehood (1959). A portion of these lands are within the Tetlin National Wildlife Refuge, administered by the United States Fish and Wildlife Service.

DATES: Comments on the State of Alaska's applications should be submitted on or before November 20, 2007. The Bureau of Land Management (BLM) has prepared two Draft Summary Reports, one for each water body. Comments on the Draft Summary Reports should be submitted on or before October 22, 2007. The State's applications and the BLM Draft Summary Reports will be posted on the BLM-Alaska Web site: http://www.blm.gov/ak/ak930/rdi/index.html.

ADDRESSES: Comments on the State of Alaska's applications or the BLM Draft Summary Reports should be sent to the Chief, Branch of Survey Planning and Preparation (AK-927), Division of Cadastral Survey, BLM Alaska State Office, 222 West 7th Avenue, #13, Anchorage, Alaska 99513-7599.

FOR FURTHER INFORMATION CONTACT: Jack Frost at (907) 271-5531 or Jack_Frost@ak.blm.gov or visit the BLM-Alaska Web site: http://www.blm.gov/ak/ak930/rdi/index.html.

SUPPLEMENTARY INFORMATION: On January 26, 2006, the State of Alaska (State) filed two applications for Recordable Disclaimers of Interest pursuant to Section 315 of the Federal Land Policy and Management Act and the regulations contained in 43 CFR Subpart 1864 for those lands underlying Little Scottie Creek (FF-94671) and Scottie Creek (FF-94672). A Recordable Disclaimer of Interest, if issued, will confirm the United States has no valid interest in the subject lands. The notice is intended to notify the public of the pending applications and the State's grounds for supporting them. The State asserts that Little Scottie Creek and Scottie Creek are navigable and unreserved; therefore, under the Equal Footing Doctrine and Submerged Lands Act of 1953, ownership of these lands automatically passed from the United States to the State at the time of statehood in 1959. The State did not identify any known adverse claimant or occupant of the affected lands. A portion of the applied for lands are within the exterior boundary of the Tetlin National Wildlife Refuge, administered by the U.S. Fish and Wildlife Service.

A final decision on the merits of the applications will not be made before November 20, 2007. During the ninety (90) day notice period, interested parties may comment upon the State's applications for Little Scottie Creek (FF-94671) and Scottie Creek (FF-94672) and supporting evidence. Interested parties may also comment on the evidence presented in the BLM Draft Summary Reports within sixty (60) days of the date of this notice. The State's applications and the BLM Draft Summary Reports will be posted on the BLM-Alaska Web site: http://www.blm.gov/ak/ak930/rdi/index.html.

Comments, including names and street addresses of the commenters, will be available for public review at the Alaska State Office (see address above), during regular business hours 7:30 a.m. to 4:30 p.m., Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

Authority: 43 CFR 1864.2(a)).

Craig Frichtl,
Chief, Branch of Survey Planning and Preparation.

[FR Doc. E7-16492 Filed 8-21-07; 8:45 am]

BILLING CODE 4310-JA-P